Presidential Determination No. 2003-31 of August 8, 2003

Determination on Turkmenistan

Memorandum for the Secretary of State

Pursuant to Presidential Determination 98-7 of December 5, 1997, Turkmenistan was found to be not in violation of paragraph (1), (2), or (3) of subsection 402(a) of the Trade Act of 1974 (19 U.S.C. 2432(a) and 2439(a)) (the “Act”) or paragraph (1), (2), or (3) of subsection 409(a) of the Act. That determination with respect to Turkmenistan is no longer in effect.

Consistent with section 402(c)(2)(A) of the Act, I determine that a waiver by Executive Order of the application of subsections (a) and (b) of section 402 of the Act with respect to Turkmenistan will substantially promote the objectives of section 402.

On my behalf, please transmit this determination to the Speaker of the House of Representatives and to the President of the Senate.

You are authorized and directed to publish this determination in the Federal Register.

B

THE WHITE HOUSE,

Washington, August 8, 2003.

[FR Doc. 03-21199

Filed 8-15-03; 8:45 am]

Billing code 4710-10-P